DEPARTMENT OF TRANSPORTATION

Federal Aviation Administration

14 CFR Part 39

[Docket No. 2002-NM-67-AD]

RIN 2120-AA64

Airworthiness Directives; Airbus Model A330 and A340 Series Airplanes

AGENCY: Federal Aviation Administration, DOT.

ACTION: Notice of proposed rulemaking (NPRM).

SUMMARY: This document proposes the supersedure of an existing airworthiness directive (AD), applicable to certain Airbus Model A330 and A340 series airplanes, that currently requires an inspection of the parking brake operated valve (PBOV) of the main landing gear to identify the part and serial numbers, and follow-on actions if necessary. That AD also provides for optional terminating action for the requirements of the AD. This action would require accomplishment of the previously optional terminating action. The actions specified by the proposed AD are intended to prevent leakage of the PBOV and consequent failure of the “blue” hydraulic system and alternate parking brake and emergency braking systems, which could affect elements of the hydraulics for flaps, stabilizer, certain spoilers, elevator, rudder, and aileron. This action is intended to address the identified unsafe condition.

DATES: Comments must be received by September 16, 2002.

ADDRESSES: Submit comments in triplicate to the Federal Aviation Administration (FAA), Transport Airplane Directorate, ANM-114, Attention: Rules Docket No. 2002-NM-67-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-67-AD” in the subject line and need not be submitted in triplicate. Comments sent via the Internet as attached electronic files must be formatted in Microsoft Word 97 for Windows or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Dan Rodina, Aerospace Engineer, International Branch, ANM-116, FAA, Transport Airplane Directorate, 1601 Lind Avenue, SW., Renton, Washington 98055-4056, telephone (425) 227-2125; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-67-AD.” The postcard will be date stamped and returned to the commenter.

Availability of NPRMs

Any person may obtain a copy of this NPRM by submitting a request to the FAA, Transport Airplane Directorate, ANM-114, Attention: Rules Docket No. 2002-NM-67-AD, 1601 Lind Avenue, SW., Renton, Washington 98055-4056.

Discussion

On April 12, 2002, the FAA issued AD 2002-08-12, amendment 39-12720 (67 FR 19650, April 23, 2002), applicable to certain Airbus Model A330 and A340 series airplanes, to require an inspection of the parking brake operated valve (PBOV) of the main landing gear to identify the part and serial numbers, and follow-on actions if necessary. AD 2002-08-12 also provides for optional terminating action (modification of affected PBOVs or their replacement with new PBOVs) for the requirements of the AD. That action was prompted by reports of PBOV leakage on certain Airbus Model A320 series airplanes. That same PBOV is installed on Airbus Model A330 and A340 series airplanes. The requirements of that AD are intended to prevent PBOV leakage, which could result in failure of the “blue” hydraulic system and consequent failure of alternate parking brake and emergency braking systems. In addition, loss of the “blue” hydraulic system could affect elements of the hydraulics for flaps, stabilizer, certain spoilers, elevator, rudder, and aileron.

Actions Since Issuance of Previous Rule

In the preamble to AD 2002-08-12, the FAA indicated that the actions required by that AD were considered “interim action” and that further rulemaking action was being considered. The FAA now has determined that further rulemaking action is indeed necessary, and this proposed AD follows from that determination.

FAA's Conclusions

These airplane models are manufactured in France and are type certificated for operation in the United States under the provisions of § 21.29 of the Federal Aviation Regulations (14 CFR 21.29) and the applicable bilateral airworthiness agreement. Pursuant to this bilateral airworthiness agreement, the Direction Générale de l'Aviation Civile (DGAC), which is the airworthiness authority for France, has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would supersede AD 2002-08-12 to continue to require an inspection of the main landing gear PBOV to identify the part and serial numbers, and follow-on actions if necessary. The proposed AD would also require the previously optional terminating action (modification of affected PBOVs or their replacement with new PBOVs), which would terminate the requirements of this proposed AD. The actions would be required to be accomplished in accordance with the service bulletins described previously (Airbus Service Bulletins A330-32A3139 and A340-32A4176, both Revision 01, dated November 23, 2001), except as discussed below.

Cost Impact

There are approximately 9 airplanes of U.S. registry that would be affected by this proposed AD.

The inspection that is currently required by AD 2002-08-12, and retained in this AD, takes approximately 2 work hours per airplane to accomplish, at an average labor rate of $60 per work hour. Based on these figures, the cost impact of the currently required actions is estimated to be $120 per airplane.

The new modification/replacement that would be required by this proposed AD would take approximately 4 work hours per airplane to accomplish, at an average labor rate of $60 per work hour. Based on these figures, the cost impact of the proposed requirements of this AD on U.S. operators is estimated to be $2,160, or $240 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12720 (67 FR 19650, April 23, 2002), and by adding a new airworthiness directive (AD), to read as follows:

Airbus: Docket 2002-NM-67-AD. Supersedes AD 2002-08-12, Amendment 39-12720.

Applicability: Model A330 and A340 series airplanes as listed in Airbus Service Bulletin A330-32A3139 or A340-32A4176, both Revision 01, dated November 23, 2001; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent leakage of the parking brake operated valve (PBOV) and consequent failure of the “blue” hydraulic system and alternate parking brake and emergency braking systems, which could affect elements of the hydraulics for flaps, stabilizer, certain spoilers, elevator, rudder, and aileron, accomplish the following:

Restatement of Requirements of AD 2002-08-12, Amendment 39-12720

Inspections/Follow-On Actions

(a) Within 7 days after May 8, 2002 (the effective date of AD 2002-08-12): Do a one-time detailed inspection to determine the part number (P/N) and serial number (S/N) of the PBOV of the main landing gear, according to Airbus Service Bulletin A330-32A3139 (for Model A330 series airplanes) or A340-32A4176 (for Model A340 series airplanes), both Revision 01, dated November 23, 2001; as applicable.

(1) If no P/N or S/N is identified as affected equipment according to the applicable service bulletin, no further action is required by this AD.

(2) If any P/N or S/N is identified as affected equipment according to the applicable service bulletin: Before further flight, perform the follow-on actions (which may include a visual inspection for hydraulic fluid leakage at the PBOV, repair or replacement of the PBOV with a new or serviceable part if leakage is found, and an operational test) according to the applicable service bulletin. If the affected PBOV is not replaced, or if the PBOV is replaced with a part having the same P/N or S/N, repeat the inspection thereafter at the time specified by and according to the service bulletin, as applicable, until the part is replaced.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

New Requirements of this AD

PBOV Modification/Replacement

(b) Within 10 months after the effective date of this AD: Modify affected PBOVs, or replace them with new PBOVs, according to Airbus Service Bulletin A330-32A3139 (for Model A330 series airplanes) or A340-32A4176 (for Model A340 series airplanes), both Revision 01, dated November 23, 2001, as applicable. This modification terminates the requirements of this AD.

(c) Accomplishment of the actions before the effective date of this AD according to Airbus Service Bulletin A330-32A3139 or A340-32A4176, dated September 14, 2001, as applicable, is acceptable for compliance with the requirements of paragraphs (a) and (b) of this AD.

Alternative Methods of Compliance

(d) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(e) Special flight permits may be issued in accordance with §§ 21.197 and 21.199 of the Federal Aviation Regulations (14 CFR 21.197 and 21.199) to operate the airplane to a location where the requirements of this AD can be accomplished.

Note 4: The subject of this AD is addressed in French airworthiness directives 2001-516(B) R1 and 2001-517(B) R1, both dated February 6, 2002.

Issued in Renton, Washington, on August 9, 2002.
Vi Lipski,
Manager, Transport Airplane Directorate, Aircraft Certification Service.

[FR Doc. 02-20712 Filed 8-15-02; 8:45 am]

BILLING CODE 4910-13-P